FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision the Consumer Satisfaction Questionnaire (FR 1379a), Federal Reserve Consumer Help—Consumer Survey (FR 1379b), Consumer Complaint Form (FR 1379c), and Interagency Appraisal Complaint Form (FR 1379d) (collectively FR 1379; OMB No. 7100-0135).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, With Revision, of the Following Information Collection

Collection title: Consumer Satisfaction Questionnaire, Federal Reserve Consumer Help—Consumer Survey, Consumer Complaint Form, and Interagency Appraisal Complaint Form.

Collection identifiers: FR 1379a, FR 1379b, FR 1379c, and FR 1379d.

OMB control number: 7100-0135.

Effective Date: February 27, 2023.

General description of collection: The FR 1379a is sent to consumers who have filed complaints with the Federal Reserve against state member banks or other financial institutions supervised by the Board. The information is used to assess the satisfaction of the consumers with the Federal Reserve's handling of, and written response to, their complaints at the conclusion of an investigation. The FR 1379b is a survey sent to consumers who contact the Federal Reserve Consumer Help (FRCH) desk to file a complaint or inquiry. The information is used to determine whether consumers are satisfied with the way the FRCH handled their complaint. The FR 1379c form addresses the burden associated with consumers electronically submitting a complaint against a financial institution to the FRCH. The FR 1379d form collects information about complaints regarding a regulated institution's non-compliance with the appraisal independence standards and the Uniform Standards of Professional Appraisal Practice, including complaints from appraisers, individuals, and other entities.

Frequency: Event generated.

Respondents: The FR 1379 panel comprises appraisers, individuals, and other entities.

Total estimated number of respondents: 11,856.

Total estimated change in burden: (167).

Total estimated annual burden hours: 1,977.¹

¹ More detailed information regarding this collection, including more detailed burden estimates, can be found in the OMB Supporting Statement posted at https://www.federalreserve.gov/apps/reportingforms/home/review. On the page displayed at the link, you can find the OMB Supporting Statement by referencing the collection identifier, FR 1379.

Current actions: On October 13, 2022, the Board published a notice in the Federal Register (87 FR 62104) requesting public comment for 60 days on the extension, with revision, of the FR 1379. The comment period for this notice expired on December 12, 2022. The Board did not receive any comments. The revisions will be implemented as proposed.

Board of Governors of the Federal Reserve System, January 23, 2023.
Michele Taylor Fennell,
Deputy Associate Secretary of the Board.

[FR Doc. 2023-01641 Filed 1-26-23; 8:45 am]

BILLING CODE 6210-01-P